DEPARTMENT OF HOMELAND SECURITY

Coast Guard

33 CFR Part 117

[Docket No. USCG-2014-0504]

Drawbridge Operation Regulation; Newtown Creek, New York City, NY

AGENCY: Coast Guard, DHS.

ACTION: Notice of deviation from drawbridge regulation.

SUMMARY: The Coast Guard has issued a temporary deviation from the operating schedule that governs the operation of the Pulaski Bridge across Newtown Creek, mile 0.6, at New York City, New York. The deviation is necessary to accommodate additional commuter bus traffic passing over the Pulaski Bridge as a result of the closure of the Newtown MTA G-Line Tunnel for repairs. This deviation allows the Pulaski Bridge to remain in the closed position intermittently for thirty-four days.

DATES: This deviation is effective from July 30, 2014 through September 1, 2014.

ADDRESSES: The docket for this deviation, [USCG-2014-0504] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Pulaski Bridge has a vertical clearance of 39 feet at mean high water and 43 feet at mean low water. The existing drawbridge operating regulations are found at 33 CFR 117.801(g)(1).

The owner of the bridge, New York City Department of Transportation, requested a thirty-four day bridge closure to facilitate additional commuter bus traffic resulting from the closure of the Newtown MTA G-Line Tunnel.

The Newtown MTA G-Line Tunnel is closed for scheduled repairs resulting from hurricane Sandy.

Under this temporary deviation, the Pulaski Bridge may remain in the closed position for up to six consecutive days followed by four consecutive days when the bridge will provide normal bridge openings. The Pulaski Bridge shall operate, from July 30, 2014 through September 1, 2014, as follows:

July 30 through August 4, bridge closed.

August 5 through August 8, bridge opens normally.

August 9 through August 14, bridge closed.

August 15 through August 18, bridge opens normally.

August 19 through August 24, bridge closed.

August 25 through August 28, bridge opens normally.

August 29 through September 1, bridge closed.

Notice of each bridge closure will be provided two weeks in advance in the Local Notice to Mariners.

The waterway users are commercial oil barge vessels. The Coast Guard contacted the oil facilities and no objections were received to this bridge closure schedule. Vessels that can pass under the bridge in the closed position may do so at all times. There are no alternative routes but the bridge can be opened in the event of an emergency.

In accordance with 33 CFR 117.35(e), the drawbridge must return to its regular operating schedule immediately at the end of the effective period of this temporary deviation. This deviation from the operating regulations is authorized under 33 CFR 117.35.

Dated: June 26, 2014.
C.J. Bisignano,
Supervisory Bridge Management Specialist, First Coast Guard District.

[FR Doc. 2014-16326 Filed 7-11-14; 8:45 am]

BILLING CODE 9110-04-P